DEPARTMENT OF STATE

[Public Notice 3474]

Privacy Act of 1974; Altered System of Records

Notice is hereby given that the Department of State proposes to alter an existing system of records, STATE-31, pursuant to the provisions of the Privacy Act of 1974, as amended (5 U.S.C. 522a (r)), and the Office of Management and Budget Circular No. A-130, Appendix I. The Department's report was filed with the Office of Management and Budget on November 3, 2000.

It is proposed that the current system STATE-31 will be renamed “Human Resources Records,” and due to the expanded scope of the current system, the altered system description will include revisions and/or additions to all other sections. Changes to the existing system description are proposed in order to reflect more accurately the Bureau of Human Resources' record-keeping systems and a reorganization of activities and operations. Also, certain relevant records will be removed from “Biographic Register Records, STATE-01,” “Board of Foreign Service Records, STATE-03,” and “Personnel Travel Records, STATE-32” and will become part of STATE-31. STATE-01, STATE-03 and STATE-32 will be deleted in the near future.

Any persons interested in commenting on the altered system of records may do so by submitting comments in writing to Margaret Peppe, Chief; Programs and Policies Division; Office of IRM Programs and Services; A/RPS/IPS/PP; U.S. Department of State, SA-2; Washington, DC 20522-6001. This system of records will be effective 40 days from the date of publication, unless we receive comments that will result in a contrary determination.

The altered system description, “Human Resources Records, STATE-31” will read as set forth below.

Dated: November 3, 2000.
Patrick F. Kennedy,
Assistant Secretary for the Bureau of Administration, Department of State.

STATE-31

System name:

Human Resources Records.

Security classification:

Classified and unclassified.

System location:

Department of State, 2201 C Street, NW, Washington, DC 20520; State Annex 01, 2401 E Street, NW, Washington, DC 29937; overseas at U.S. embassies, U.S. consulates general, and U.S. consulates; U.S. missions; and the National Personnel Records Center, 111 Winnebago Street, St. Louis, MO 63118.

Categories of individuals covered by the system:

All applicants for employment with the Department of State (including unsuccessful applicants); all current and former Civil Service (CS) and Foreign Service (FS) employees of the Department of State including members of the Senior Executive Service, Presidential appointees, employees under full-time, part-time, intermittent, temporary, and limited appointments; anyone serving in an advisory capacity (compensated and uncompensated); other agency employees on detail to the Department; former Foreign Service Reserve Officers; student applicants for internships, Presidential Management Interns, Foreign Affairs Fellowship Program Fellows, student interns and other student summer hires, Stay-in-School student employees, and Cooperative Education Program participants; employees who report intent to marry or cohabitate with a foreign national; prospective alien spouses of Department employees; employees who apply for their spouses or children to be expeditiously naturalized; employees detailed or seconded to international organizations; Foreign Service personnel separated for cause; current and former Foreign Service Generalists who were/are members of class action lawsuits; annuitants under the Foreign Service Retirement and Disability System and the Foreign Service Pension System as well as civil service annuitants.

Authority for maintenance of the system:

22 U.S.C. 2581 (General Authority of Secretary of State); 22 U.S.C. 2651a (Organization of the Department of State); 22 U.S.C. 3901 et seq. (Foreign Service Act of 1980); 22 U.S.C. 3921 (Management of the Foreign Service); 22 U.S.C. 4041 (Administration of the Foreign Service Retirement and Disability System); 5 U.S.C. 301-302 (Management of the Department of State); Executive Order 9397 (Numbering System for Federal Accounts Relating to Individual Persons); Executive Order 9830 (Amending the Civil Service Rules and Providing for Federal Personnel Administration); and Executive Order 12107 (Relating to the Civil Service Commission and Labor-Management in the Federal Service) and successor authorities.

Purposes:

The Official Personnel File and other general personnel records files are the official repository of the records, reports of personnel actions, and the documents and papers required in connection with personnel actions effected during an employee's Federal service. The information and documents collected and maintained in this system are in keeping with the Bureau of Human Resources' mission to determine the size and configuration of the Department workforce in order to meet its goals of defending national security and promoting national interests; to document all processes associated with individual employment histories and career progression; to ensure that all employees and potential employees have equal opportunities and to make personnel management determinations about employees throughout their Federal careers.

Categories of records in the system:

Records are kept in different offices within the Department according to the status of the employee and/or the action being taken. Most records are retained in the Bureau of Human Resources, however, some records are held by Bureaus with partial or fully delegated personnel authority for certain personnel functions. Eventually, the records may be merged, retired or disposed of. All categories of records may include identifying information, such as, but not limited to, name, date of birth, home address, mailing and e-mail address, social security number and home telephone number. The primary record files are the official personnel files; merit promotion files; recruitment and employment files; employee relations files; technician files; career development and counseling files; performance files; conduct, suitability, and discipline files; Foreign Service promotion files; and retirement and annuitant files; which may contain any of the following documents and various related documents not otherwise stated: applications for Federal employment; resumes; biographic information; college transcripts; crediting plans; panel rating and summary sheets; rank order list of candidates and Merit Promotion certificates of those eligible; fingerprint charts; security clearance forms and related correspondence; requests for personnel action and other related forms required for entry on duty such as health and life insurance and other benefits; questionnaires for National Security positions; correspondence documenting eligibility for priority consideration and/or placement and related documents; pre-appointment certification statements for Selective Service registration; appointment affidavits; Declarations of Appointee; Declarations of Federal Employment; Employment Eligibility Verifications; letters of appointment offer; employment confirmation letters; Statements of Understanding (employee-signed agreement to conditions of employment); official personnel actions, e.g., assignment, pay, promotion, leave and/or travel; Foreign Service written and oral examination results; language proficiency ratings; reports of other processes that impact the status of an employee, e.g., investigations of the Office of the Inspector General; documents related to issues raised in lawsuits; counseling messages; correspondence with parties to litigation including class actions, or their attorneys; documents regarding awarding of monetary, promotion, award or assignment relief under consent decrees, settlements, agreements, or court orders; Department letters regarding separation for cause and responses by individuals; transcripts of hearings; recommendations of hearing officers; documents related to potential and/or formal disciplinary actions such as reports of investigation from the Office of the Inspector General and/or the Bureau of Diplomatic Security, warning letters, reprimands, proposal letters, employee's written responses, summary of the employee's oral response, and decision letters imposing disciplinary action; performance evaluations and related correspondence; career development and counseling records including training and assignment records; bid lists; requests for and notifications of changes in tours of duty and home leave eligibility; grievance files; requests for medical clearance; medical clearance waivers and medical clearances; processing records and card files; promotion, upward mobility, and conversion files (Mustang and lateral entry programs); retirement applications; forms and documents related to benefits under the Federal Employees Compensation Act; documents pertaining to disabled employees; designated beneficiary information and estimated annuity calculations; records of health and life insurance enrollments for annuitants and current and former spouses; annuitant and external placement files; title and rank documents; Presidential Commission records; Foreign Service Residence and Dependency Reports; separate maintenance allowance forms; applications for marriage to foreign nationals and notices of intent of Foreign Service employees; service record cards; Personal Audit Reports and abstracts; and forms and correspondence relating to Foreign Service allowances.

Routine uses of records maintained in the system, including categories of users and the purposes of such uses:

The information in the Human Resources Records may be used:

• By Department personnel in the performance of their official duties including, but not limited to, recruitment, position classification, appointments, assignments, performance management/appraisal and compensation, evaluations and promotions, awards, training, staffing, counseling, disciplinary or adverse actions, grievances, litigation, travel orders and operations of the automated personnel/payroll and Foreign Service annuitant systems;

• To provide the names of those Foreign Service employees who are proposed for tenure, promotion or assignment requiring special action to the Bureau of Diplomatic Security, the Office of the Inspector General, and the Office of Employee Relations in the Bureau of Human Resources for review and eventual submission to the Director General of the Foreign Service;

• To track security clearances for applicants;

• To provide personnel trends and demographics for resource management and analysis;

• To administer the Department's disciplinary program for both Civil Service and Foreign Service employees as well as the programs for expeditious naturalization and marriage to and cohabitation with foreign nationals;

• To examine employee complaints regarding the validity of specific documents in their files;

• By consulting services who provide information about available aids, devices and methods of accommodating employees with disabilities;

• To exchange information with the Office of Personnel Management for its government-wide personnel management functions such as pay, benefits, and retirement deductions;

• To provide information to other Federal agencies, state governments, foreign governments and international organizations where employees are being considered for detail, assignment or secondment;

• To provide information to academic institutions to which Department employees may be assigned for long-term training;

• To disclose information to any member of an agency's Performance Review Board or other panel when the member is not an official of the employing agency; information would then be used for approving or recommending selection of candidates for executive development or SES candidate programs, issuing a performance rating of record, issuing performance awards, nominating for meritorious and distinguished executive ranks, and removal, reduction-in-grade, and other personnel actions based on performance;

• By attorneys, union representatives or other persons designated by employees in writing to represent them in complaints, grievance, appeal, or litigation cases;

• To respond to requests in determining a former spouse's entitlement to benefits and other inquiries related to retirement benefits;

• By the President of the United States, the Executive Office of the President and legislative and appropriations committees of the U.S. Congress charged with consideration of legislation and appropriations for the Foreign Service, or representatives duly authorized by such committees;

• By labor organization officials when such information is relevant to personnel policies affecting employment conditions and necessary for exclusive representation by the labor organization;

• To disclose information to officials of foreign governments and other U.S. government agencies for clearance before a Federal employee is assigned to that country as well as for the procurement of necessary services for American personnel assigned overseas, such as permits of free entry and identity cards;

• To disclose information to the Department of Labor, Department of Veterans Affairs, Social Security Administration, Department of Defense, or any other Federal agencies that have special civilian employee retirement and disability programs; or to a national, state, county, municipal, or other publicly recognized charitable or income security, administration agency (e.g., State unemployment compensation agencies), when necessary to adjudicate a claim under the retirement, insurance, unemployment or health benefits programs of the Department or an agency cited above, or to an agency to conduct an analytical study or audit of benefits being paid under such programs;

• To disclose to the Office of Federal Employees Group Life Insurance, information necessary to verify election, declination, or waiver of regular and/or optional life insurance coverage, or eligibility for payment of a claim for life insurance;

• To disclose, to health insurance carriers contracting with the Federal government to provide a health benefits plan under the Federal Employees Health Benefits Program, information necessary to identify enrollment in a plan, to verify eligibility for payment of a claim for health benefits, or to carry out the coordination or audit of benefit provisions of such contracts;

• When an individual to whom a record pertains is mentally incompetent or under other legal disability, information in the individual's record may be disclosed to any person who is responsible for the care of the individual, to the extent necessary to assure payment of benefits to which the individual is entitled;

• To consider and select employees for incentive awards and other honors and to publicize those granted—this may include disclosure to other public and private organizations, including news media, which grant or publicize employee recognition;

• To disclose information to the Inspector General in conducting an official investigation of the Department or any of its personnel;

• By the subject of the record to review his/her career status and progress;

• To disclose information to the Department of Justice or in connection with proceedings before a court, adjudicative body, or other administrative body when:

(1) The agency, or any component thereof; or

(2) Any employee of the agency in his or her official capacity; or

(3) Any employee of the agency in his or her individual capacity where the Department of Justice or the agency has agreed to represent the employee; or

(4) The United States, when the agency determines that litigation is likely to affect the agency or any of its components; is a party to litigation or has an interest in such litigation, and the Department of State determines that the use of such records is arguably relevant and necessary to the litigation;

• To implement court decisions and/or terms of settlement agreements reached by the parties;

• To prepare reports to the courts in compliance with monitoring requirements;

• In response to an order from a court or an administrative body (including, but not limited to the Equal Employment Opportunity Commission, the Foreign Service Grievance Board and the Merit Systems Protection Board) directing the production of personnel records;

• By other government agencies and private organizations, institutions or individuals to verify employment, to process security clearances and to request record or credit checks;

• To provide an official of another Federal agency information needed in the performance of official duties in support of the functions for which the records were collected and maintained;

• To disclose information to Equal Employment Opportunity (EEO) counselors and EEO investigators in connection with EEO complaints and to the Equal Employment Opportunity Commission when requested in connection with investigations of alleged or possible discrimination practices in the Federal sector, examination of Federal affirmative employment programs, compliance by Federal agencies with the Uniform Guidelines on Employee Selection Procedures, or other functions vested in the Commission;

• By the Department of Labor's Office of Workers' Compensation programs relating to benefits under the Federal Employees Compensation Act; and

• To disclose information to the news media and the public when (1) a matter involving the Department of State has become public knowledge, (2) the Under Secretary for Management determines that in response to the matter in the public domain, disclosure is necessary to provide an accurate factual record on the matter, and (3) the Under Secretary determines that there exists a legitimate public interest in the information disclosed.

Also see the “Routine Uses” paragraph of the Prefatory Statement published in the Federal Register.

Policies and practices for storing, retrieving, accessing, retaining and disposing of records in the system:

Storage:

Electronic media and hard copy.

Retrievability:

By individual name, social security number.

Safeguards:

All employees of the Department of State have undergone background investigations. Access to the Department and its annexes is controlled by security guards and admission is limited to those individuals possessing a valid identification card or individuals under proper escort. All records containing personal information are maintained in secured file cabinets or in restricted areas, access to which is limited to authorized personnel. Access to computerized files is password-protected and under the direct supervision of the system manager. The system manager has the capability of printing audit trails of access from the computer media, thereby permitting regular and ad hoc monitoring of computer usage.

Retention and disposal:

These records will be maintained until they become inactive at which time they will be retired or destroyed in accordance with published records schedules of the Department of State and as approved by the National Archives and Records Administration. More specified information may be obtained by writing to the Director, Office of IRM Programs and Services; A/RPS/IPS; U.S. Department of State, SA-2; Washington, DC 20522-6001.

System manager(s) and address:

The Director General of the Foreign Service and Director of Human Resources; Department of State; 2201 C Street, NW; Washington, DC 20520.

Notification procedures:

Individuals who have reason to believe that the Bureau of Human Resources might have records pertaining to themselves should write to the Director, Office of IRM Programs and Services (address above). The individual must specify that he/she wishes the Human Resources Records to be checked. At a minimum, the individuals must include: name; date and place of birth; approximate dates of employment with the Department of State or when in process for a potential appointment; current mailing address and zip code; signature and preferably, his/her social security number.

Record access and amendment procedures:

Individuals who wish to gain access to or amend records pertaining to themselves should write to the Director, Office of IRM Programs and Services (address above).

Record source categories:

These records contain information obtained directly from the individual who is the subject of these records, previous employers, supervisors, Foreign Service inspectors, any/all offices within the Bureau of Human Resources (counselors, placement officers, and personnel technicians), other bureaus (administrative/executive officers, personnel and payroll offices, security, medical, and legal), reports of the Board of Examiners of the Foreign Service, Foreign Service Employee Evaluation Reports and Selection Board findings, the Foreign Service Institute, colleges, universities, Armed Forces academic institutions, contractors responsible for administration of the Foreign Service written examination, and other authorized agencies administering pre-employment tests, Office of Personnel Management and other federal agencies, prospective alien spouses of Foreign Service employees; grievance staff and appeals boards, affidavits and testimony of witnesses.

System exempted from certain provisions of the Privacy Act:

Pursuant to 5 U.S.C. 552a(k)(4), records contained within this system that are maintained solely for statistical purposes are exempted from 5 U.S.C. 552a (c)(3), (d), (e)(1), (e)(4)(G), (H) and (I), and (f). Pursuant to 5 U.S.C. 552a (k)(5) and (k)(7), certain records contained within this system contain confidential source information and are exempted from 5 U.S.C. 552a (c)(3), (d), (e)(1), (e)(4)(G), (H) and (I), and (f). Pursuant to 5 U.S.C. 552a (k)(6), records that contain testing or examination material the release of which may compromise testing or examination procedures are also exempted from 5 U.S.C. 552a (c)(3), (d), (e)(1), (e)(4)(G), (H) and (I), and (f). See Department of State Rules published in the Federal Register.

[FR Doc. 00-29246 Filed 11-15-00; 8:45 am]

BILLING CODE 4710-24-U